ENVIRONMENTAL PROTECTION AGENCY

40 CFR Part 52

[EPA-R09-OAR-2022-0306; FRL-9713-04-R9]

Air Quality State Implementation Plans; Approvals and Promulgations: California; San Diego County Air Pollution Control District; Permits; Correcting Amendment

AGENCY: Environmental Protection Agency (EPA).

ACTION: Final rule; correction.

SUMMARY: On September 28, 2022, the Environmental Protection Agency (EPA) published a final rule in the Federal Register approving revisions to the San Diego County Air Pollution Control District (SDAPCD) portion of the California State Implementation Plan (SIP). In that rulemaking, the EPA inadvertently included erroneous amendatory instructions codifying the replacement of the previously approved versions of Rules 20.1, 20.3, and 20.4. This document corrects the errors in the final rule's amendatory instructions.

DATES: This correction is effective October 28, 2022.

FOR FURTHER INFORMATION CONTACT: Laura Yannayon, EPA Region IX, (415) 972-3534, yannayon.laura@epa.gov.

SUPPLEMENTARY INFORMATION: In our final rule published September 28, 2022 (87 FR 58729), the EPA inadvertently included errors in amendatory instructions that codified our deletion with replacement of the previously-approved versions of the following rules:

1. Rule 20.1, “New Source Review—General Provisions,” as amended on October 14, 2021, at 40 CFR 52.220(c)(508)(i)(A)(10), citing the EPA's approval of a previous version of Rule 20.1 at 40 CFR 52.220(c)(508)(i)(A)(6). The EPA's approval of the version of Rule 20.1 that had been previously approved and is being replaced by our approval of the October 14, 2021 version of Rule 20.1 is listed in 40 CFR 52.220(c)(539)(i)(A)(1), not 40 CFR 52.220(c)(508)(i)(A)(6). This error correction corrects the amendatory instructions to codify the replacement of the previously-approved version of Rule 20.1 in a new paragraph at 40 CFR 52.220(c)(539)(i)(A)(5).

2. Rule 20.3, “New Source Review—Major Stationary Sources and PSD Stationary Sources,” (except subsections (d)(1)(vi), (d)(2)(i)(B), (d)(2)(v), (d)(2)(vi)(B) and (d)(3)), revision adopted on October 14, 2021, at 40 CFR 52.220(c)(508)(i)(A)(11), citing the EPA's approval of a previous version of Rule 20.3 at 40 CFR 52.220(c)(508)(i)(A)(8). The EPA's approval of the version of Rule 20.3 that had been previously approved and is being replaced by our approval of the October 14, 2021 version of Rule 20.3 is listed in 40 CFR 52.220(c)(539)(i)(A)(3), not 40 CFR 52.220(c)(508)(i)(A)(8). This error correction corrects the amendatory instructions to codify the replacement of the previously-approved version of Rule 20.3 in a new paragraph at 52.220(c)(539)(i)(A)(6).

3. Rule 20.4, “New Source Review—Portable Emission Units” (except subsections (b)(2), (b)(3), (d)(1)(iii), (d)(2)(i)(B), (d)(2)(iv), (d)(2)(v)(B), (d)(3) and (d)(5)), revision adopted on October 14, 2021, at 40 CFR 52.220(c)(508)(i)(A)(12) citing the EPA's approval of a previous version of Rule 20.4 at 40 CFR 52.220(c)(508)(i)(A)(9). The EPA's approval of the version of Rule 20.4 that had been previously approved and is being replaced by our approval of the October 14, 2021 version of Rule 20.4 is listed in 40 CFR 52.220(c)(539)(i)(A)(4), not 40 CFR 52.220(c)(508)(i)(A)(9). This error correction corrects the amendatory instructions to codify the replacement of the previously-approved version of Rule 20.4 in a new paragraph at 52.220(c)(539)(i)(A)(7).

In FR Doc. 2022-20588 appearing on pages 58731-58732 in the Federal Register of Wednesday, September 28, 2022, the following corrections are made:

§ 52.220 [Corrected]

1. On page 58731, in the middle of the third column, the amendatory instruction currently reading as “2. Section 52.220 is amended by adding paragraphs (c)(488)(i)(A)(6), (c)(508)(i)(A)(10), (11), and (12), and (c)(557)(i)(B), adding reserved paragraph (c)(587), and adding paragraph (c)(588) to read as follows:” is corrected to read as “2. Section 52.220 is amended by adding paragraphs (c)(488)(i)(A)(6), (c)(539)(i)(A)(5), (6), and (7), and (c)(557)(i)(B), adding reserved paragraph (c)(587), and adding (c)(588) to read as follows:”

2. On page 58731, at the bottom of the third column, the regulatory text adding 40 CFR 52.220(c)(508)(i)(A)(10) is corrected to add 52.220(c)(539)(i)(A)(5), to read as follows: “(5) Previously approved on September 16, 2020 in paragraph (c)(539)(i)(A)(1) of this section and now deleted with replacement in (c)(588)(i)(A)(1) of this section, Rule 20.1, “New Source Review—General Provisions,” revision adopted on October 14, 2021.”

3. Beginning on page 58731, at the bottom of the third column, the regulatory text adding 40 CFR 52.220(c)(508)(i)(A)(11) is corrected to add 52.220(c)(539)(i)(A)(6), to read as follows: “(6) Previously approved on September 16, 2020 in paragraph (c)(539)(i)(A)(3) of this section and now deleted with replacement in paragraph (c)(588)(i)(A)(2) of this section, Rule 20.3, “New Source Review—Major Stationary Sources and PSD Stationary Sources” (except subsections (d)(1)(vi), (d)(2)(i)(B), (d)(2)(v), (d)(2)(vi)(B) and (d)(3)), revision adopted on October 14, 2021.”

4. On page 58732, at the top of the first column, the regulatory text adding 40 CFR 52.220(c)(508)(i)(A)(12) is corrected to add 52.220(c)(539)(i)(A)(7), to read as follows: “(7) Previously approved on September 16, 2020 in paragraph (c)(539)(i)(A)(4) of this section and now deleted with replacement in (c)(588)(i)(A)(3), of this section, Rule 20.4, “New Source Review—Portable Emission Units” (except subsections (b)(2), (b)(3), (d)(1)(iii), (d)(2)(i)(B), (d)(2)(iv), (d)(2)(v)(B), (d)(3) and (d)(5)), revision adopted on October 14, 2021.”

Dated: October 18, 2022.
Martha Guzman Aceves,
Regional Administrator, Region IX.

[FR Doc. 2022-22978 Filed 10-26-22; 8:45 am]

BILLING CODE 6560-50-P